DEPARTMENT OF AGRICULTURE

Food and Nutrition Service

National Advisory Council on Maternal, Infant and Fetal Nutrition; Notice of Meeting

AGENCY: Food and Nutrition Service, USDA.

ACTION: Notice of meeting.

SUMMARY: Pursuant to the Federal Advisory Committee Act, this notice announces a meeting of the National Advisory Council on Maternal, Infant and Fetal Nutrition.

DATES: August 3-5, 2005, 9 a.m.-5 p.m.

ADDRESSES: The meeting will be held at the Food and Nutrition Service, 3101 Park Center Drive, Conference Rooms 204 A&B, Alexandria, Virginia 22302.

FOR FURTHER INFORMATION CONTACT: Anne Bartholomew, Supplemental Food Programs Division, Food and Nutrition Service, Department of Agriculture, (703) 305-2086.

SUPPLEMENTARY INFORMATION: The Council will continue its study of the Special Supplemental Nutrition Program for Women, Infants and Children, and the Commodity Supplemental Food Program. The agenda items will include a discussion of general program issues. Meetings of the Council are open to the public. Members of the public may participate, as time permits. Members of the public may file written statements with the contact person named above, before or after the meeting.

Dated: June 15, 2005.
Roberto Salazar,
Administrator.

[FR Doc. 05-12479 Filed 6-23-05; 8:45 am]

BILLING CODE 3410-30-P